DEPARTMENT OF THE INTERIOR

Bureau of Land Management

[LLUT-92000-09-L13200000-EL0000-24-1A00, UTU-85539]

Adequacy of the Environmental Assessment and Fair Market Value Public Meeting for the Dry Canyon Coal Tract, Carbon County, UT

AGENCY: Bureau of Land Management, Interior.

ACTION: Notice of Public Meeting and Call for Public Written Comment on the Proposed Sale, Adequacy of the Environmental Assessment, Fair Market Value determination and Maximum Economic Recovery consideration for Coal Lease Application UTU-85539. Note all comments must be submitted in written form to be considered.

SUMMARY: The Bureau of Land Management (BLM) will hold a public meeting on August 13, 2009, at 7 p.m. at the Bureau of Land Management, Price Field Office, 125 South 600 West, Price, Utah, for the proposed competitive sale of the Dry Canyon coal tract. BLM requests public written comment on the fair market value and environmental effects of mining of this tract. The lands included in the delineated Federal coal lease tract (“Dry Canyon”) are located in Carbon County, Utah approximately three miles northeast of Helper, Utah on both private and BLM surface with federally administered minerals and are described as follows:

T. 12 S., R.10 E., SLM, Carbon County, Utah

Sec. 25, N½;

Sec. 26, N½;

Sec. 27, N½;

Sec. 28, NE¼, E½NW¼, SW¼NW¼, S½;

Sec. 29, E½SE¼;

Sec. 33, all.

T. 13 S., R.10 E., SLM, Carbon County, Utah

Sec. 3, all;

Sec. 4, lots 1-4, S½N½, N½S½;

Sec. 8, lot 4;

Sec. 10, N½, W½SW¼;

Sec. 11, N½, SE¼.

Containing approximately 4,325.01 acres.

UtahAmerican Energy, Inc. submitted the application for the coal lease. The company plans to mine the coal as an extension from their existing Aberdeen Mine, if the lease is obtained. The Dry Canyon coal tract has three minable coal beds—the Aberdeen, the Kennilworth and the D seam bed. The minable portions of the coal beds in this area are around ten feet in thickness for the Aberdeen; around eight feet in thickness for the Kennilworth and around six feet in thickness for the D seam. The tract contains around 42.2 million tons of recoverable high-volatile A/B bituminous coal. The coal quality in the coal beds on an “as received basis” is as follows: (1) Aberdeen: 13,414 Btu/lb., 2.35 percent moisture, 5.57 percent ash, 41.86 percent volatile matter, 49.83 percent fixed carbon and 0.49 percent sulfur; (2) Kennilworth: 13,287 Btu/lb., 2.06 percent moisture, 6.91 percent ash, 42.88 percent volatile matter, 48.26 percent fixed carbon and 0.72 percent sulfur; (3) D: 12,470 Btu/lb., 6.00 percent moisture, 8.00 percent ash, 39.00 percent volatile matter, 47.00 percent fixed carbon and 0.50 percent sulfur. The public is invited to the meeting to make written comments on the environmental implications of leasing the proposed tract, and also to submit written comments on the Fair Market Value and the Maximum Economic Recovery of the tract.

SUPPLEMENTARY INFORMATION: In accordance with Federal coal management regulations 43 CFR 3422 and 3425, the public meeting is being held on the proposed sale to allow written comment on and discussion of the potential effects of mining and proposed lease. The meeting is being advertised in the Sun Advocate located in Price, Utah. 43 CFR 3422 states that, no less than 30 days prior to the publication of the notice of the sale, the Secretary shall solicit public comments on the Fair Market Value appraisal and the Maximum Economic Recovery and on factors that may affect these two determinations. Proprietary data marked as confidential may be submitted to the Bureau of Land Management in response to this solicitation of public comments. Data so marked shall be treated in accordance with the laws and regulations governing confidentiality of such information. A copy of the comments submitted by the public on Fair Market Value and Maximum Economic Recovery, except those portions identified as proprietary by the author and meeting exemptions stated in the Freedom of Information Act, will be available for public inspection at the Bureau of Land Management, Utah State Office during regular business hours (8 a.m.-4 p.m.) Monday through Friday. Comments on the Fair Market Value and Maximum Economic Recovery should be sent to the Bureau of Land Management and should address, but not necessarily be limited to the following information:

1. The quality of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal and the time of production;

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the Fair Market Value of the coal developed by BLM may or may not change as a result of comments received from the public and changes in market conditions between now and when final economic evaluations are completed.

DATES: The public meeting is being held on Thursday, August 13, 2009 at the Price Field Office, 125 South 600 West, Price, Utah, starting at 7 p.m.

FOR FURTHER INFORMATION CONTACT: Written comments on the Fair Market Value and Maximum Economic Recovery must be received by August 12, 2009 and should be addressed to Stan Perkes, 801-539-4036, Bureau of Land Management, Utah State Office, Division of Lands and Minerals, P.O. Box 45155, Salt Lake City, Utah 84145 or E-Mail to Stan_Perkes@blm.gov. Information on the Decision Notice/Finding of No Significant Impact can be obtained by contacting Mr. Steve Rigby, 435-636-3604. Written comments concerning the environmental review of this action should be directed to the Price Field Office, 125 South 600 West, Price, Utah 84501.

Dated: June 12, 2009.
Selma Sierra,
State Director.

[FR Doc. E9-14409 Filed 6-18-09; 8:45 am]

BILLING CODE 4310-DQ-P